DEPARTMENT OF AGRICULTURE

Office of the Secretary of Agriculture

7 CFR Part 2

RIN 0524-AA33

Revisions of Delegations of Authority

ACTION: Final rule.

SUMMARY: This document amends the delegations of authority from the Secretary of Agriculture to the Under Secretary for Research, Education, and Economics (FEE) to carry out a program of entering into agreements with veterinarians under which they provide veterinary services in veterinarian shortage situations as authorized by the National Veterinary Medical Service Act (NVMSA) (7 U.S.C. 3151a). This rule also further delegates this authority from the Under Secretary for REE to the Administrator of the Cooperative State Research, Education, and Extension Service (CSREES).

DATES: Effective Date: March 19, 2007.

FOR FURTHER INFORMATION CONTACT: Gary Sherman, National Program Leader, Veterinary Science, Cooperative State Research, Education, and Extension Service, U.S. Department of Agriculture, STOP 2220, 1400 Independence Avenue, SW., Washington, DC 20250-2220, (202) 401-4952, gsherman@csrees.usda.gov.

SUPPLEMENTARY INFORMATION: In 2003 NVMSA, 7 U.S.C. 3151a, authorized the Secretary of Agriculture to carry out the Veterinary Medicine Loan Repayment Act program. In fiscal year 2006 the first funding for this program was appropriated to CSREES of the United States Department of Agriculture (USDA). Not having previously delegated the authority to implement the NVMSA program, the Secretary of Agriculture is delegating the authority to implement this program to CSREES. In accordance with the authorizing legislation, CSREES is prepared to lead a collaborative effort with USDA's Food Safety and Inspection Service and Animal and Plant Health Inspection Service to carry out the intent of the authorizing legislation.

This rule relates to internal agency management. Therefore, pursuant to 5 U.S.C. 553(a)(2), notice of proposed rulemaking and opportunity for comment are not required, and this rule may be made effective less than 30 days after publication in the Federal Register. Further, because this rule relates to internal agency management, it is exempt from the provisions of Executive Order Nos. 12291 and 12866. Finally, this action is not a rule as defined by the Regulatory Flexibility Act, 5 U.S.C. 601 et seq., and is, therefore, exempt from the provisions of that Act. Accordingly, as authorized by section 808 of the Small Business Regulatory Enforcement Fairness Act of 1996, 5 U.S.C. 808, this rule may be made effective upon publication.

List of Subjects in 7 CFR Part 2

Administrative practice and procedure, Authority delegations (Government agencies).

Accordingly, Title 7 of the Code of Federal Regulations is amended as follows:

PART 2—DELEGATIONS OF AUTHORITY BY THE SECRETARY OF AGRICULTURE AND GENERAL OFFICES OF THE DEPARTMENT

1. The authority citation for 7 CFR part 2 continues to read as follows:

Authority: 7 U.S.C. 6912(a)(1); 5 U.S.C. 301; Reorganization Plan No. 2 of 1953, 3 CFR parts 1949-1953 Comp., p. 1024.

Subpart C—Delegations of Authority to the Deputy Secretary and to the Under Secretaries and Assistant Secretaries

2. Section 2.21 is amended by adding paragraph (a)(1)(lxxxiv):

§ 2.21 Under Secretary for Research, Education, and Economics.

(a) * * *

(1) * * *

(lxxxiv) Formulate and carry out the Veterinary Medicine Loan Repayment Act program authorized by the National Veterinary Medical Service Act (7 U.S.C. 3151a).

* * * * *

Subpart K—Delegations of Authority by the Under Secretary for Research, Education, and Economics

3. Section 2.66 is amended by adding paragraph (a)(141) to read as follows:

§ 2.66 Administrator, Cooperative State Research, Education and Extension Service.

(a) * * *

(141) Formulate and carry out the Veterinary Medicine Loan Repayment Act program authorized by the National Veterinary Medical Service Act (7 U.S.C. 3151a).

* * * * *

For Part 2, Subpart C, Paragraph 2.21(a)(1):
Dated: March 12, 2007.
Mike Johanns,
Secretary of Agriculture.
For Part 2, Subpart C, Paragraph 2.66(a):
Dated: March 8, 2007.
Gale A. Buchanan,
Under Secretary, Research, Education, and Economics.

[FR Doc. 07-1308 Filed 3-16-07; 8:45 am]

BILLING CODE 3410-22-M